DEPARTMENT OF DEFENSE

Department of the Navy

Notice of Availability of Government-Owned Inventions; Available for Licensing

AGENCY: Department of the Navy, DoD.

ACTION: Notice.

SUMMARY: The Department of the Navy hereby gives notice of the availability of exclusive or partially exclusive licenses to practice worldwide under the following pending patents. Any license granted shall comply with 35 U.S.C. 209 and 37 CFR part 404. Applications will be evaluated utilizing the following criteria: Ability to manufacture and market the technology; manufacturing and marketing ability; time required to bring technology to market and production rate; royalties; technical capabilities; and small business status.

U.S. Patent application Serial Numbers 11/328,486 and PCT/US2006/00194 entitled, “Method for the detection of stress biomarkers including cortisol by fluorescence polarization” filed on January 4, 2006. The invention relates to a competitive a fluorescence method for estimating the concentration of stress biomarkers such as cortisol, melatonin and secretory IgA, in bodily fluids including serum, urine and oral fluids including saliva.

U.S. Patent application Serial Number 11/373,777 entitled “Methods for Downregulating Expression of an HIV-1 Cofactor” filed on March 10, 2006. The present invention relates to a method of inducing a decrease in HIV-1 susceptibility in CD4 T cells. The method contemplates the induction of the HIV-1 decrease in susceptibility by treating CD4 T cells by blocking intra-cellular signaling via CTLA-4.

U.S. Patent application Serial Numbers 11/357,462 and PCT/US06/04620, entitled “Diagnostic Assay for Orientia Tsutsugamushi by Detection of Responsive Gene Expression” filed on February 9, 2005. The present invention relates to a method of diagnosing Rickettsial diseases by analysis of modulation of host gene expression. The method contemplates the use of microarray technology for the detection and analysis of gene up or down regulation in response to bacterial infection.

U.S. Patent application Serial Number 60/762,559 entitled “Interim Dental Dressing and Restorative Material” filed on January 25, 2006. The present invention relates to a restorative dental formulation for the temporary replacement of tooth structure and missing dental restorations. The invention also relates to the packaging of the dental formulation into single-use disposable containers for easy admixing of contents, easy and accurate determination of proper admixing of ingredients and easy and effective dispensing of restorative material.

U.S. Patent application Serial Number 60/781,407 entitled “Method for the Detection of Target Molecules by Fluorescence Polarization Using Peptide Mimics” filed on March 10, 2006. The invention relates to a competitive method measuring stress biomarkers including cortisol, melatonin and secretory IgA by fluorescence polarization,fluorescence life-time analysis or fluorescence resonance energy transfer. The method can be carried out using samples from a wide range of fluid samples including serum and oral fluids including saliva.

U.S. Patent application Serial Number 60/758,099 entitled “Adhesin-Enterotoxin Chimera Based Composition Against Enterotoxingenic Escherichia Coli” filed on January 11, 2006. The invention relates to a method of inducing an immune response against enterotoxigenic Escherichia coli using a chimera composed of bacterial fimbriae components and immunogenic bacterial toxins. The inventive composition contemplates Escherichia coli adhesin molecularly fused to diarrheagenic bacteria toxin yielding an adhesin-toxoid chimera.

DATES: Applications for a non-exclusive, exclusive or partially exclusive license may be submitted at any time from the date of this notice.

ADDRESSES: Submit application to the Office of Technology Transfer, Naval Medical Research Center, 503 Robert Grant Ave, Silver Spring, MD 20910-7500.

FOR FURTHER INFORMATION CONTACT: Dr. Charles Schlagel, Director, Office of Technology Transfer, Naval Medical Research Center, 503 Robert Grant Ave, Silver Spring, MD 20910-7500, telephone 301-319-7428, or E-Mail: schlagelc@nmrc.navy.mil.

Dated: April 28, 2006.
Eric McDonald,
Lieutenant Commander, Judge Advocate General's Corps, U.S. Navy, Federal Register Liaison Officer.

[FR Doc. E6-6801 Filed 5-4-06; 8:45 am]

BILLING CODE 3810-FF-P